DEPARTMENT OF COMMERCE

National Oceanic and Atmospheric Administration

RIN 0648-XE995

Pacific Fishery Management Council; Public Meetings

AGENCY: National Marine Fisheries Service, National Oceanic and Atmospheric Administration, Commerce.

ACTION: Notice of public meetings.

SUMMARY: The Pacific Fishery Management Council (Pacific Council) and its advisory entities will hold public meetings.

DATES: The Pacific Council and its advisory entities will meet November 13-21, 2016. The Pacific Council meeting will begin on Wednesday, November 16, 2016 at 9 a.m., reconvening at 8 a.m. each day through Monday, November 21, 2016. All meetings are open to the public, except a closed session will be held from 8 a.m. to 9 a.m., Wednesday, November 16 to address litigation and personnel matters. The Pacific Council will meet as late as necessary each day to complete its scheduled business.

ADDRESSES: Meetings of the Council and its advisory entities will be held at the Hyatt Regency Orange County, 11999 Harbor Blvd., Garden Grove, CA 92840; telephone: (714) 750-1234.

Council address: Pacific Fishery Management Council, 7700 NE. Ambassador Place, Suite 101, Portland, OR 97220. Instructions for attending the meeting via live stream broadcast are given under SUPPLEMENTARY INFORMATION, below.

FOR FURTHER INFORMATION CONTACT: Mr. Chuck Tracy, Executive Director; telephone: (503) 820-2280 or (866) 806-7204 toll-free; or access the Pacific Council Web site, http://www.pcouncil.org for the current meeting location, proposed agenda, and meeting briefing materials.

SUPPLEMENTARY INFORMATION: The November 13-21, 2016 meeting of the Pacific Council will be streamed live on the Internet. The broadcasts begin initially at 9 a.m. Pacific Time (PT) Wednesday, November 16, 2016 and continue at 8 a.m. daily through Monday, November 21, 2016. Broadcasts end daily at 6 p.m. PT or when business for the day is complete. Only the audio portion and presentations displayed on the screen at the Pacific Council meeting will be broadcast. The audio portion is listen-only; you will be unable to speak to the Pacific Council via the broadcast. To access the meeting online please use the following link: http://www.gotomeeting.com/online/webinar/join-webinar and enter the November Webinar ID, 102-405-515, and your email address. You can attend the webinar online using a computer, tablet, or smart phone, using the GoToMeeting application. It is recommended that you use a computer headset to listen to the meeting, but you may use your telephone for the audio portion only of the meeting. The audio portion may be attended using a telephone by dialing the toll number 1-562-247-8422 (not a toll-free number), audio access code 879-397-319, and enter the audio pin shown after joining the webinar.

The following items are on the Pacific Council agenda, but not necessarily in this order. Agenda items noted as “Final Action” refer to actions requiring the Council to transmit a proposed fishery management plan, proposed plan amendment, or proposed regulations to the U.S. Secretary of Commerce, under Sections 304 or 305 of the Magnuson-Stevens Fishery Conservation and Management Act. Additional detail on agenda items, Council action, advisory entity meeting times, and meeting rooms are described in Agenda Item A.4, Proposed Council Meeting Agenda, and will be in the advance November 2016 briefing materials and posted on the Council Web site at www.pcouncil.org.

A. Call to Order

1. Opening Remarks

2. Roll Call

3. Executive Director's Report

4. Approve Agenda

B. Open Comment Period

1. Comments on Non-Agenda Items

C. Administrative Matters

1. West Coast Regional Operating Agreement Final Review

2. National Standard Guidelines Update

3. Fiscal Matters

4. Approval of Council Meeting Record

5. Membership Appointments and Council Operating Procedures

6. Future Council Meeting Agenda and Workload Planning

D. Salmon Management

1. National Marine Fisheries Service Report

2. Salmon Methodology Review

3. Chinook Fishery Regulation Assessment Model Update

4. Preseason Salmon Management Schedule for 2017 Final Action

E. Pacific Halibut Management

1. Final 2017 Catch Sharing Plan and Annual Regulation Changes

F. Groundfish Management

1. National Marine Fisheries Service Report

2. Methodology Review Final Topic Selection

3. Inseason Management Final Action

4. Groundfish Essential Fish Habitat (EFH) and Rockfish Conservation Area (RCA) Amendment 28 Alternatives (Part 1 and Part 2)

5. Trawl Gear Modification Exempted Fishing Permit (EFP) Final Action

6. Five-Year Catch Share Program and Intersector Allocation Review Plans and Fishery Management Plan Update

7. Mid-Biennium Harvest Specification Adjustment Policies

G. Coastal Pelagic Species Management

1. National Marine Fisheries Service Report

2. Methodology Review Preliminary Topic Selection

3. Small-Scale Fishery Management Alternatives

4. Northern Anchovy Stock Assessment and Management Measures

H. Current Habitat Issues

1. Current Habitat Issues

I. Highly Migratory Species Management

1. National Marine Fisheries Service Report

2. International Issues

3. U.S.-Canada Albacore Tuna Treaty

4. Deep-Set Buoy Gear Exempted Fishing Permits (EFPs)

5. Swordfish Fishery Management

Advisory Body Agendas

Advisory body agendas will include discussions of relevant issues that are on the Council agenda for this meeting, and may also include issues that may be relevant to future Council meetings. Proposed advisory body agendas for this meeting will be available on the Council Web site http://www.pcouncil.org/council-operations/council-meetings/current-briefing-book/ no later than Tuesday, November 1, 2016.

Schedule of Ancillary Meetings
Day 1—Sunday, November 13, 2016
SSC Economic and Groundfish Subcommittees | 1 p.m.
Day 2—Monday, November 14, 2016
SSC Economic and Groundfish Subcommittees | 8 a.m.
Day 3—Tuesday, November 15, 2016
Coastal Pelagic Species Advisory Subpanel | 8 a.m.
Coastal Pelagic Species Management Team | 8 a.m.
Groundfish Management Team | 8 a.m.
Salmon Advisory Subpanel | 8 a.m.
Scientific and Statistical Committee | 8 a.m.
Habitat Committee | 8:30 a.m.
Groundfish Advisory Subpanel | 1 p.m.
Budget Committee | 1 p.m.
Day 4—Wednesday, November 16, 2016
California State Delegation | 7 a.m.
Oregon State Delegation | 7 a.m.
Washington State Delegation | 7 a.m.
Coastal Pelagic Species Advisory Subpanel | 8 a.m.
Coastal Pelagic Species Management Team | 8 a.m.
Groundfish Advisory Subpanel | 8 a.m.
Groundfish Management Team | 8 a.m.
Salmon Advisory Subpanel | 8 a.m.
Scientific and Statistical Committee | 8 a.m.
Habitat Committee | 8:30 a.m.
Enforcement Consultants | 3 p.m.
Day 5—Thursday, November 17, 2016
California State Delegation | 7 a.m.
Oregon State Delegation | 7 a.m.
Washington State Delegation | 7 a.m.
Groundfish Advisory Subpanel | 8 a.m.
Groundfish Management Team | 8 a.m.
Enforcement Consultants | Ad hoc.
Day 6—Friday, November 18, 2016
California State Delegation | 7 a.m.
Oregon State Delegation | 7 a.m.
Washington State Delegation | 7 a.m.
Groundfish Advisory Subpanel | 8 a.m.
Groundfish Management Team | 8 a.m.
Highly Migratory Species Advisory Subpanel | 8 a.m.
Highly Migratory Species Management Team | 8 a.m.
Enforcement Consultants | Ad hoc.
Day 7—Saturday, November 19, 2016
California State Delegation | 7 a.m.
Oregon State Delegation | 7 a.m.
Washington State Delegation | 7 a.m.
Groundfish Advisory Subpanel | 8 a.m.
Groundfish Management Team | 8 a.m.
Highly Migratory Species Advisory Subpanel | 8 a.m.
Highly Migratory Species Management Team | 8 a.m.
Enforcement Consultants | Ad hoc.
U.S. Government Accountability Office (GAO) | 7 p.m.
Engagement on Commercial Fishing Vessel Classification Standards
Day 8—Sunday, November 20, 2016
California State Delegation | 7 a.m.
Oregon State Delegation | 7 a.m.
Washington State Delegation | 7 a.m.
Groundfish Advisory Subpanel | 8 a.m.
Groundfish Management Team | 8 a.m.
Highly Migratory Species Advisory Subpanel | 8 a.m.
Highly Migratory Species Management Team | 8 a.m.
Enforcement Consultants | Ad hoc.
Day 9—Monday, November 21, 2016
California State Delegation | 7 a.m.
Oregon State Delegation | 7 a.m.
Washington State Delegation | 7 a.m.

Although non-emergency issues not contained in this agenda may come before this Council for discussion, those issues may not be the subject of formal Council action during this meeting. Council action will be restricted to those issues specifically listed in this notice and any issues arising after publication of this notice that require emergency action under Section 305(c) of the Magnuson-Stevens Fishery Conservation and Management Act, provided the public has been notified of the Council's intent to take final action to address the emergency.

Special Accommodations

These meetings are physically accessible to people with disabilities. Requests for sign language interpretation or other auxiliary aids should be directed to Mr. Kris Kleinschmidt at (503) 820-2280 at least 10 business days prior to the meeting date.

Dated: October 21, 2016.
Tracey L. Thompson,
Acting Deputy Director, Office of Sustainable Fisheries, National Marine Fisheries Service.

[FR Doc. 2016-25887 Filed 10-25-16; 8:45 am]

BILLING CODE 3510-22-P